ENVIRONMENTAL PROTECTION AGENCY

40 CFR Part 52

[MN70-7295a; FRL-7136-4]

Approval and Promulgation of Implementation Plans; Minnesota

AGENCY: Environmental Protection Agency (EPA).

ACTION: Direct final rule.

SUMMARY: The Environmental Protection Agency is approving a site-specific revision to the Minnesota Sulfur Dioxide (SO2) State Implementation Plan (SIP) for Koch Petroleum Group, LP (Koch). The Minnesota Pollution Control Agency (MPCA) submitted the SIP revision request on May 2, 2001. The request is approvable because it satisfies the requirements of the Clean Air Act (Act). The rationale for the approval and other information are provided in this document.

DATES: This direct final rule will be effective April 22, 2002, unless EPA receives adverse comment by March 25, 2002. If EPA receives adverse comments, EPA will publish a timely withdrawal of the direct final rule in the Federal Register informing the public that the rule will not take effect.

ADDRESSES: Written comments may be mailed to: Carlton Nash, Chief, Regulation Development Section, Air Programs Branch (AR-18J), United States Environmental Protection Agency, 77 West Jackson Boulevard, Chicago, Illinois 60604. Copies of the documents relevant to this action are available for inspection during normal business hours at the above address. (Please telephone Christos Panos at (312) 353-8328, before visiting the Region 5 office.)

FOR FURTHER INFORMATION CONTACT: Christos Panos, Regulation Development Section, Air Programs Branch (AR-18J), Air and Radiation Division, United States Environmental Protection Agency, Region 5, 77 West Jackson Boulevard, Chicago, Illinois 60604, (312) 353-8328.

SUPPLEMENTARY INFORMATION: This supplemental information section is organized as follows:

I. General Information

1. What action is EPA taking today?

2. Why is EPA taking this action?

3. What is the background for this action?

II. Review of State Implementation Plan Revision

1. Why did the State submit this SIP Revision?

2. What did Minnesota submit for approval into the SIP?

3. How does the SIP revision show attainment of the SO2 standards?

III. Final Rulemaking Action

IV. Administrative Requirements

I. General Information

1. What Action Is EPA Taking Today?

In this action, EPA is approving into the Minnesota SO2 SIP a site-specific revision for Koch, located in the Pine Bend Area of Rosemount, Dakota County, Minnesota. Specifically, EPA is approving and thereby incorporating Amendment No. 5 to Koch's administrative order (order) into the Minnesota SO2 SIP.

2. Why Is EPA Taking This Action?

EPA is taking this action because the state's submittal for Koch is fully approvable. The SIP revision provides for attainment and maintenance of the SO2 National Ambient Air Quality Standards (NAAQS) and satisfies the applicable SO2 requirements of the Act. A more detailed explanation of how the state's submittal meets these requirements is in EPA's November 9, 2001 Technical Support Document (TSD).

3. What Is the Background for This Action?

EPA designated Air Quality Control Region (AQCR) 131, which contains Dakota County, as a primary SO2 nonattainment area on March 3, 1978 (43 FR 8962) based on monitored violations of the primary SO2 NAAQS from 1975 through 1977. In response to the Part D requirements of the Act, MPCA submitted a final SO2 plan for AQCR 131 on August 4, 1980. EPA approved the Minnesota Part D SO2 SIP for AQCR 131 on April 8, 1981 (46 FR 20996). Based on monitored violations recorded in 1982, EPA declared the Dakota County SO2 SIP inadequate and issued a call for revisions to the Minnesota SO2 SIP on December 5, 1984 (49 FR 47488).

On July 29, 1992 MPCA submitted to EPA a revision to the SO2 SIP for the Dakota County/Pine Bend SO2 nonattainment area demonstrating attainment of the SO2 NAAQS in response to the SIP call. The modeling for the SIP attainment demonstration showed that Koch was a culpable source for the 1982 violations and therefore, MPCA issued an order to Koch based on the modeling. The state submitted the revised order for Koch to EPA on February 25, 1994 and EPA took final action on September 9, 1994 (59 FR 46553), to approve Minnesota's SO2 SIP revision submittals for the Dakota County/Pine Bend area of AQCR 131.

On September 7, 1994, MPCA submitted to EPA a request to redesignate the Pine Bend area of AQCR 131 to attainment. EPA approved the state's request in a direct final action published on May 31, 1995 (60 FR 28339) redesignating the Pine Bend area to attainment of the SO2 NAAQS.

On December 20, 2000, MPCA submitted a SIP revision consisting of Amendment No. 4 to Koch's order. Amendment No. 4 requires Koch to reduce emissions of nitrogen oxides (NOX) and SO2 at its #2 crude unit. EPA approved Amendment No. 4 into the SO2 SIP on June 12, 2001 (66 FR 31545).

II. Review of State Implementation Plan Revision

1. Why Did the State Submit This SIP Revision?

The Fall 2001 Turnaround project is the second project initiated by Koch to reduce emissions of NOX and SO2 pursuant to a December 22, 2000 consent decree in United States v. Koch Petroleum Group, L.P., Civil Action No. 00-2756-PAM-SRN. In this project Koch will modify the #2 crude unit, 32 unit, and 33 unit at the refinery. Koch addressed most of the #2 crude unit project in Amendment No. 4 of the order. Amendment No. 5 modifies the #2 crude unit by adding low-NOX burners to heater 12H-4, includes the addition of low-NOX burners to heaters 32H-4,5,6, 33H-31, and changes to the convection sections of heaters 33H-31 and 33H-32. Koch will use heaters 33H-31 and 33H-32 for heating process streams instead of steam generation. Because of these changes, the design stack temperatures for heaters 12H-4, 32H-5,6,7 and 33H-32 will drop below the stack temperatures used in the 1992 modeling. The current SIP for Koch requires a revision to the plan if it revises stack parameters.

2. What Did Minnesota Submit for Approval Into the SIP?

The May 2, 2001 revision submitted by MPCA requests that EPA approve Amendment No. 5 to Koch's order into the Minnesota SO2 SIP. Amendment No. 5 authorizes the installation of low-NOX burners to heaters 12H-4, 32H-4,5,6, 33H-31, and 33H-32. Heaters 33H-31 and 33H-32 will be used for heating process streams instead of steam generation. Within 180 days after the installation of the low-NOX burners, heater 33H-31 will burn refinery gas and will no longer be able to burn fuel oil. The revised order allows heater 16H-1 to operate on refinery fuel gas or natural gas with allowable SO2 emissions of 5.6 lb/hr on a 3-hour average, and 15.3 tons of SO2 per year. The revised order also limits heater 11H-6 to SO2 emissions of 9.3 lb/hr on a 3-hour average, and 25.2 tons of SO2 per year.

3. How Does the SIP Revision Show Attainment of the SO2 Standards?

The MPCA submitted air quality modeling in support of Koch's SO2 SIP revision. MPCA's modeling demonstrates that the SO2 emissions from the Fall 2001 Turnaround project do not threaten attainment of the SO2 NAAQS when factored into the 1992 attainment demonstration modeling. As discussed below, SO2 emissions will decrease.

Net baseline emissions are the allowable emission rates used in the approved 1992 SIP attainment demonstration for the Pine Bend Area. The SO2 emissions for the units modified by the current project totaled 2443 tons/year in the 1992 SIP. Total SO2 emissions associated with the current project are 365 tons/year. The difference in SO2 emissions from the 1992 SIP for the affected sources and the current project is a decrease of more than 2,000 tons/year. A more detailed discussion is in EPA's November 9, 2001 TSD.

III. Final Rulemaking Action

EPA is approving the site-specific SIP revision for Koch Petroleum Group, LP, located in the Pine Bend area of Rosemount, Dakota County, Minnesota. Specifically, EPA is incorporating Amendment No. 5 to Koch's Administrative Order into the Minnesota SO2 SIP. The State submitted this SIP revision on May 2, 2001 as a result of negotiations to a consent decree between EPA, MPCA and Koch, in which Koch proposed a series of modifications at the Pine Bend refinery. This project consists primarily of the modification of existing process heaters by replacing existing burners with low-NOX burners, thereby substantially decreasing SO2 emissions at the facility. As described above, this project provides for attainment and maintenance of the SO2 NAAQS in the Pine Bend area and is therefore fully approvable.

The EPA is publishing this action without prior proposal because we view this as a noncontroversial amendment and anticipate no adverse comments. However, in the proposed rules section of this Federal Register publication, we are publishing a separate document that will serve as the proposal to approve the state plan if relevant adverse comments are filed. This rule will be effective April 22, 2002, without further notice unless we receive relevant adverse comments by March 25, 2002. If we receive such comments, we will withdraw this action before the effective date by publishing a subsequent document that will withdraw the final action. We will then address all public comments received in a subsequent final rule based on the proposed action. The EPA will not institute a second comment period. Any parties interested in commenting on this action should do so at this time. If we do not receive any comments, this action will be effective April 22, 2002.

Nothing in this action should be construed as permitting or allowing or establishing a precedent for any future implementation plan. Each request for revision to the SIP shall be considered separately in light of specific technical, economic, and environmental factors and in relation to relevant statutory and regulatory requirements.

IV. Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have federalism implications because it does not have substantial direct effects on the states, on the relationship between the national government and the states, or on the distribution of power and responsibilities among the various levels of government, as specified in Executive Order 13132 (64 FR 43255, August 10, 1999). This action merely approves a state rule implementing a federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804 exempts from section 801 the following types of rules: (1) rules of particular applicability; (2) rules relating to agency management or personnel; and (3) rules of agency organization, procedure, or practice that do not substantially affect the rights or obligations of non-agency parties. 5 U.S.C. 804(3). EPA is not required to submit a rule report regarding this action under section 801 because this is a rule of particular applicability.

Under section 307(b)(1) of the Clean Air Act, petitions for judicial review of this action must be filed in the United States Court of Appeals for the appropriate circuit by April 22, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Reporting and recordkeeping requirements, Sulfur dioxide.

Authority: 42 U.S.C. 7401 et. seq.

Dated: January 16, 2002.
Gary Gulezian,
Acting Regional Administrator, Region 5.

Title 40 of the Code of Federal Regulations, chapter I, part 52, is amended as follows:

PART 52—[AMENDED]

1. The authority citation for part 52 continues to read as follows:

Authority: 42 U.S.C. 7401-7671q.

2. Section 52.1220 is amended by adding paragraph (c)(60) to read as follows:

§ 52.1220 Identification of plan.

* * * * *

(c) * * *

(60) On May 2, 2001, the State of Minnesota submitted a site-specific State Implementation Plan (SIP) revision for the control of emissions of sulfur dioxide (SO2) for Koch Petroleum Group, L.P., located in the Pine Bend Area of Rosemount, Dakota County, Minnesota. Specifically, EPA is approving into the SO2 SIP Amendment No. 5 to the Administrative Order previously approved in paragraph (c)(35) and revised in paragraph (c)(57) of this section.

(i) Incorporation by reference

(A) An administrative order identified as Amendment Five to Findings and Order by Stipulation, for Koch Petroleum Group, L.P., dated and effective April 30, 2001, submitted May 2, 2001.

[FR Doc. 02-3756 Filed 2-20-02; 8:45 am]

BILLING CODE 6560-50-P